DEPARTMENT OF TRANSPORTATION

Federal Aviation Administration

Eleventh Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held December 11-13, 2007.

Times: December 11th from 9 a.m.-5 p.m., December 12th from 9 a.m.-5 p.m., December 13th from 9 a.m.-3 p.m.

ADDRESSES: The meeting will be held at RTCA, Inc., 1828 L Street, NW., Suite 805, Washington, DC 20036. Point of Contact: Rudy Ruana; Telephone: 202-833-9339; e-mail: rruana@rtca.org.

Note: Workgroup 1 breakout sessions will take place at SAIC, located at 400 Virginia Ave., SW., Ste 800 and 525 School Street, 4th Floor, Washington, DC 20024; Metro: L'Enfant Plaza; Dress is Business Casual; Workgroup meetings on December 13th may go on until 5 p.m.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 203 meeting. The agenda will include;

• December 11:

• Opening Plenary Session (Welcome and Introductory Remarks, Approval of Eleventh Plenary Summary).

• Approval of Eleventh Plenary Summary.

• Presentations to the Plenary.

• Work plan status and review.

• Workgroup 1 status.

• Workgroup 2 status.

• Workgroup 3 status.

• Plenary Adjourns.

• Workgroups 1, 2, and 3 Breakouts.

• December 12:

• Workgroups 1, 2, and 3 Breakouts.

• December 13:

• Workgroups 1, 2, and 3 Breakouts.

• Plenary Reconvenes.

• Closing Plenary Session (Other Business, Date, Place and Time of Next Plenary, Adjourn).

Attendance is open to the interested public but limited to space availability. With the approval of the chairmen, members of the public may present oral statements at the meeting. Persons wishing to present statements or obtain information should contact the person listed in the FOR FUTHER INFORMATION CONTACT section. Members of the public may present a written statement to the committee at any time.

Issued in Washington, DC, on November 5, 2007.
Francisco Estrada C.,
RTCA Advisory Committee.

[FR Doc. 07-5721 Filed 11-16-07; 8:45 am]

BILLING CODE 4910-13-M